DEPARTMENT OF DEFENSE

Department of the Navy

[Docket ID: USN-2022-HQ-0018]

Proposed Collection; Comment Request

AGENCY: Department of the Navy, Department of Defense (DoD).

ACTION: 60-Day information collection notice.

SUMMARY: In compliance with the Paperwork Reduction Act of 1995, Navy and Marine Corps Public Health Center announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 12, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Navy and Marine Corps Public Health Center, 620 John Paul Jones Circle, Suite 1100, Portsmouth, VA 23708, ATTN: Ms. Jennifer Zingalie, or call 757-953-0664.

SUPPLEMENTARY INFORMATION:

Title; Associated Form; and OMB Number: Navy and Marine Corps Public Health Center Environmental Concerns Surveys; OMB Control Number 0703-EGEN.

Needs and Uses: The information collection is necessary to ascertain community concerns related to Navy environmental clean-up actions at various installations around the country. The Navy needs a way to collect opinions on community needs and how or when citizens would like to be involved in the Comprehensive Environmental Response, Compensation, and Liability Act process. The Navy typically provides a survey several months before the development of a site-specific Community Involvement Plan (CIP). The survey includes multiple choice questions on areas of concern, and a section for open comment. The survey is typically conducted for one to three months. Survey respondents include local officials, residents, public interest groups, and other interested or affected parties within a specific mile-range of the given Environmental Restoration Program (ERP) site. Information collection from community members provides input for the required CIP. The survey is also used to solicit new Restoration Advisory Board members, and informs the Navy on community awareness and understanding of the ERP process.

Affected Public: Individuals or households; Businesses or other for-profit; Not-for-profit Institutions; State, Local, or Tribal Government.

Annual Burden Hours: 40.

Number of Respondents: 120.

Responses per Respondent: 1.

Annual Responses: 120.

Average Burden per Response: 20 minutes.

Frequency: On occasion.

Dated: June 7, 2022.
Aaron T. Siegel,
Alternate OSD Federal Register Liaison Officer, Department of Defense.

[FR Doc. 2022-12641 Filed 6-10-22; 8:45 am]

BILLING CODE 5001-06-P